DEPARTMENT OF AGRICULTURE

Forest Service

De Soto Resource Advisory Committee

AGENCY: Forest Service, USDA.

ACTION: Notice of meeting.

SUMMARY: The De Soto Resource Advisory Committee will meet in Waynesboro, Mississippi. The committee is authorized under the Secure Rural Schools and Community Self-Determination Act (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 20, 2012, 11:00 a.m.

ADDRESSES: The meeting will be held at Wayne County Courthouse, 609 Azalea Drive, Waynesboro, MS 39367.

Written comments may be submitted as described under SUPPLEMENTARY INFORMATION. All comments, including names and addresses when provided, are placed in the record and are available for public inspection and copying.

The public may inspect comments received at De Soto Ranger District, 654 West Frontage Road, Wiggins, MS 39577. Please call ahead to 601-528-6160 to facilitate entry into the building to view comments.

FOR FURTHER INFORMATION CONTACT: Ron Smith, Designated Federal Official, USDA Forest Service, De Soto Ranger District, 654 West Frontage Road, Wiggins, MS 39577; 601-528-6160; ronaldasmith@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Welcome; (2) Review and approval of minutes from last meeting; (3) Review of proposed projects; (4) Public Comment. Anyone who would like to bring related matters to the attention of the committee may file written statements with the committee staff before or after the meeting. The agenda will include time for people to make oral statements of three minutes or less. Individuals wishing to make an oral statement should request in writing by September 14, 2012 to be scheduled on the agenda. Written comments and requests for time for oral comments must be sent to De Soto Ranger District, 654 West Frontage Road, Wiggins, MS 39577, or by email to ronaldasmith@fs.fed.us, or via facsimile to 601-528-6193. A summary of the meeting will be posted at: www.fs.usda.gov/main/pts/home within 21 days of the meeting.

Meeting Accommodations: If you are a person requiring reasonable accommodation, please make requests in advance for sign language interpreting, assistive listening devices or other reasonable accommodation for access to the facility or proceedings by contacting the person listed under FOR FURTHER INFORMATION CONTACT. All reasonable accommodation requests are managed on a case by case basis.

Dated: August 23, 2012.
Ron Smith,
Designated Federal Official.

[FR Doc. 2012-21263 Filed 8-30-12; 8:45 am]

BILLING CODE 3410-11-M